ENVIRONMENTAL PROTECTION AGENCY

40 CFR Part 52

[NM-39-1-7454, FRL-6534-9]

Approval and Promulgation of Implementation Plans; State of New Mexico; Approval of Revised Maintenance Plan for Albuquerque/Bernalillo County; Albuquerque/Bernalillo County, NM; Carbon Monoxide

AGENCY: Environmental Protection Agency (EPA).

ACTION: Withdrawal of direct final rule.

SUMMARY: On December 20, 1999 (64 FR 71027), EPA published a direct final approval of a revision to the New Mexico State Implementation Plan which revised the Albuquerque Carbon Monoxide maintenance plan approved in 1996. The direct final action was published without prior proposal because EPA anticipated no adverse comment. The EPA stated in the direct final rule that if EPA received adverse comment by January 19, 2000, EPA would publish a timely withdrawal in the Federal Register. The EPA subsequently received adverse comments on the direct final rule. Therefore, EPA is withdrawing the direct final approval action. The EPA will address the comments in a subsequent final action based on the parallel proposal also published on December 20, 1999 (64 FR 71086). As stated in the parallel proposal, EPA will not institute a second comment period on this action.

DATES: The direct final rule published December 20, 1999 (64 FR 71027) is withdrawn as of February 14, 2000.

ADDRESSES: Copies of documents relevant to this action are available for public inspection during normal business hours at the following locations. Anyone wanting to examine these documents should make an appointment by calling the person listed below at least two working days in advance.

Environmental Protection Agency, Region 6, Air Planning Section (6PD-L), 1445 Ross Avenue, Dallas, Texas 75202-2733.

FOR FURTHER INFORMATION CONTACT: Matthew Witosky of the EPA Region 6 Air Planning Section at (214) 665-7214.

SUPPLEMENTARY INFORMATION: See the information provided in the direct final rule located in the Rules and Regulations section and the proposed rule located in the Proposed Rules section of the December 20, 1999, Federal Register.

Dated: February 2, 2000.
Gregg A. Cooke,
Regional Administrator, Region 6.

Therefore the amendment to 40 CFR part 52, § 52.1620, published in the Federal Register December 20, 1999 (64 FR 71027), which was to become effective February 18, 2000, is withdrawn.

[FR Doc. 00-3216 Filed 2-11-00; 8:45 am]

BILLING CODE 6560-50-M